DEPARTMENT OF ENERGY

Federal Energy Regulatory Commission

Combined Notice of Filings #1

October 20, 2005.

Take notice that the Commission received the following electric rate filings:

Docket Numbers: ER02-783-004; ER02-852-004; ER02-855-004; ER01-2262-006; ER03-438-003; ER95-433-001; ER05-723-003.

Applicants: EPCOR Merchant and Capital (US) Inc.; EPCOR Power Development, Inc. EPDC, Inc.; Frederickson Power L.P.; Manchief Power Company LLC; Curtis/Palmer Hydroelectric Company L.P.; EPCOR Power (Castleton) LLC.

Description: EPCOR Merchant and Capital (US) Inc., EPCOR Power Development Inc. et al. submits a Notice of Change in Status regarding Market-Based Rate Authority.

Filed Date: 10/12/2005.

Accession Number: 20051019-0016.

Comment Date: 5 p.m. eastern time on Wednesday, November 02, 2005.

Docket Numbers: ER06-9-000.

Applicants: FPL Energy Burleigh County Wind, LLC.

Description: Request for authorization to sell energy & capacity at market-based rates re FPL Energy Burleigh County Wind, LLC.

Filed Date: 10/03/2005.

Accession Number: 20051007-0011.

Comment Date: 5 p.m. eastern time on Monday, October 24, 2005.

Docket Numbers: ER06-32-000.

Applicants: American Transmission Company LLC.

Description: American Transmission Co., LLC, by its corporate manager, ATC Management Inc., submits a notice of cancellation of Attachments K & K-1 to the Open Access Transmission Tariff, FERC Electric Tariff, Volume No. 1.

Filed Date: 10/13/2005.

Accession Number: 20051017-0227.

Comment Date: 5 p.m. eastern time on Thursday, November 03, 2005.

Docket Numbers: ER06-33-000.

Applicants: Pacific Gas & Electric Company.

Description: Pacific Gas & Electric Co. submits its filing proposing certain revisions to its First Revised Rate Schedule FERC No. 208 for the Reliability Must-Run Service Agreement with California Independent System Operator Corp.

Filed Date: 10/13/2005.

Accession Number: 20051017-0226.

Comment Date: 5 p.m. eastern time on Thursday, November 03, 2005.

Docket Numbers: ER06-44-000; ER06-45-000.

Applicants: Manchief Power Company, LLC; EPCOR Power (Castleton).

Description: Manchief Power Co., LLC and EPCOR Power (Castleton) submit revisions to their respective FERC Electric Tariffs.

Filed Date: 10/12/2005.

Accession Number: 20051019-0029.

Comment Date: 5 p.m. eastern time on Wednesday, November 2, 2005.

Any person desiring to intervene or to protest in any of the above proceedings must file in accordance with Rules 211 and 214 of the Commission's Rules of Practice and Procedure (18 CFR 385.211 and § 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Magalie R. Salas,
Secretary.

[FR Doc. E5-5924 Filed 10-25-05; 8:45 am]

BILLING CODE 6717-01-P